FEDERAL COMMUNICATIONS COMMISSION

[DA 01-1392]

Commission Will Notify the National Archives that it May Remove the Designation of Confidentiality From Ten-Year Old ARMIS Records

AGENCY: Federal Communications Commission.

ACTION: Notice.

SUMMARY: In this document we give notice that the Commission intends to Notify the National Archives that it May Remove the Designation of Confidentiality from Ten-Year Old ARMIS Records.

DATES: On July 30, 2001, we will notify the National Archives that it may remove the designation of confidentiality from these records.

ADDRESSES: Federal Communications Commission, 445-12th Street, SW., TW-A325, Washington, DC 20554.

FOR FURTHER INFORMATION CONTACT: Mika Savir, Accounting Safeguards Division, Common Carrier Bureau at (202) 418-0384 or Andy Mulitz, Chief, Legal Branch, Accounting Safeguards Division, Common Carrier Bureau at (202) 418-0827.

SUPPLEMENTARY INFORMATION: This Public Notice (DA 01-1392) released on June 13, 2001, is available for inspection and copying during normal business hours in the FCC Reference Information Center (RIC), 445 12th Street, SW., TW-A325, Washington, DC 20554. The complete text may be purchased from the Commission's copy contractor, International Transcription Service, Inc., 1231 20th Street, NW., Washington, DC 20036 (202) 857-3800.

Synopsis of Public Notice

Automated Reporting Management Information System (ARMIS) records are sent to the National Archives five years after the filing date. At this time, the National Archives has 207 ARMIS records, Reports 495A and 495B, for which confidential treatment had been sought when the reports were filed. Some of the ARMIS records that have been sent to the National Archives were originally filed with requests for confidentiality under section 0.459 of the Commission's rules, 47 CFR section 0.459. As is the Commission's practice under its rules, see 47 CFR section 0.459(d)(1), it has not ruled on these requests for confidential treatment. There have not been any Freedom of Information Act (FOIA) requests seeking disclosure of these documents.

The National Archives has inquired whether the ARMIS reports should still be treated confidentially. We find that after 10 years there is no need for further confidential treatment of these records. Unless we are advised by July 30, 2001 by carriers that sought confidential treatment for their ARMIS report that continued confidential treatment is warranted, we will notify the National Archives that it may remove the designation of confidentiality from these records. A carrier seeking continued confidential treatment must provide the reasons such treatment is still required and justify the period during which it contends the reports should not be publicly available. See 47 CFR section 0.459(b)(8). Carriers advocating continued confidential treatment should file their requests with Ernestine Creech, Accounting Safeguards Division, Common Carrier Bureau, 445 12th Street, SW., Washington, DC 20554.

Federal Communications Commission.
Kenneth P. Moran,
Chief, Accounting Safeguards Division, Common Carrier Bureau.

[FR Doc. 01-15664 Filed 6-21-01; 8:45 am]

BILLING CODE 6712-01-P